DEPARTMENT OF LABOR

Employment and Training Administration

[TA-W-52,639]

Textron, Ferndale Fastener Division, Madison Heights, MI; Notice of Termination of Investigation

Pursuant to section 221 of the Trade Act of 1974, as amended, an investigation was initiated on August 21, 2003, in response to a worker petition filed on behalf of workers at Textron, Ferndale Fastener Division, Madison Heights, Michigan.

The petitioner has requested that the petition be withdrawn. Consequently, the investigation has been terminated.

Signed at Washington, DC, this 4th day of September, 2003.
Richard Church,
Certifying Officer, Division of Trade Adjustment Assistance.

[FR Doc. 03-29675 Filed 11-26-03; 8:45 am]

BILLING CODE 4510-30-P